NATIONAL SKILL STANDARDS BOARD

Partnership Organization: Manufacturing Skill Standards Council (MSSC): Solicitation of Comments

AGENCY: National Skill Standards Board.

ACTION: Solicitation of comments.

SUMMARY: The National Skill Standards Board (NSSB) is building a voluntary national system of skill standards, assessment, and certification that will enhance the ability of the U.S. to compete effectively in a global economy. The Manufacturing Skill Standards Council (MSSC) is the first of four industry-based Voluntary Partnerships that have been recognized by the NSSB to develop proposed skill standards. As NSSB requires of Voluntary Partnerships, MSSC seeks public comment to improve the product, receive input on potential uses of the skill standards in various organizations, and to assist in the design of associated assessment and certification systems related to the skill standards' full implementation and continuous improvement. Comments must be submitted in writing in order to be considered, and details on submitting comments via e-mail, fax, or regular mail are provided in the Addresses section. Due to the complexity and length of the proposed skill standards, only a summary is published in this Notice. To obtain the full text of the proposed MSSC Skill Standards, see the Supplementary Information section.

DATES: The Manufacturing Skill Standards Council will accept written comments on the proposed Manufacturing Industry Skill Standards on or before March 27, 2001.

ADDRESSES: Please send comments via regular mail to: MSSC, 1201 New York Ave., NW., Suite 725, Washington, DC 20005-3917. To submit comments via fax, transmit to Standards Release at 202-289-7618. To submit comments via the Web, go to http://www.msscusa.org/. Click on the icon titled “View and Comment On the Skill Standards Here”

FOR FURTHER INFORMATION CONTACT: For further information regarding MSSC's development of skill standards, assessment, and certification for the manufacturing industry, contact the Manufacturing Skill Standards Council (MSSC) at 1201 New York Avenue, Suite 725, Washington DC 20005-3917 (202-216-2740), http://www.msscusa.org/. For further information on the Voluntary National System of Industry Skill Standards, contact the National Skill Standards Board (NSSB): 1441 L Street, NW., Suite 9000, Washington DC 20005, 202-254-8628, http://www.nssb.org.

SUPPLEMENTARY INFORMATION:

Table of Contents

I. Contact Information for Submitting Comments

II. Background

III. Authorizing Legislation

IV. National Skill Standards Board (NSSB)

V. Manufacturing Skill Standards Council (MSSC)

VI. Mission of the Manufacturing Skill Standards Council

VII. Background for Proposed Standards Release

VIII. Proposed Standards

IX. Resolution of Comments

I. Contact Information for Submitting Comments

The full text of the proposed MSSC Skill Standards, A Blueprint for Workforce Excellence, may be obtained by submitting a written request to the following mailing address: Attention, Standards Release, MSSC, 1201 New York Ave., NW, Suite 725, Washington, DC 20005-3917, or by faxed request to Standards Release at 202-289-7618. The full text of the proposed MSSC Skill Standards is also available on the MSSC website at http://www.msscusa.org/. Proposed skill standards may be viewed on the web or downloaded (PDF files). Printed copies of the proposed skill standards may also be obtained from the downloadable PDF at http://www.msscusa.org/validation/Standards/Feedback.pdf.

II. Background

Under a Cooperative Agreement with the National Skill Standards Board (NSSB), the Manufacturing Skill Standards Council (MSSC) has developed voluntary industry-wide standards covering six (6) broad concentrations of work within 14 sectors of manufacturing, and has determined and proposes core skill standards common to each of the six concentrations. The concentrations are: (1) Production; (2) Health, Safety and Environmental Assurance; (3) Logistics and Inventory Control; (4) Maintenance, Installation and Repair; (5) Production Process Development; and, (6) Quality Assurance. The National Skill Standards Act of 1994 defines a skill standard as one that specifies the level of knowledge and skills required to successfully perform work-related functions within an occupational cluster. The MSSC proposed standards describe the work requirements and worker skills necessary for a high performance manufacturing environment. These standards incorporate a common language that will enhance communication among and determine portability of skills for employers, job seekers, employees, human resource professionals, union representatives, educators, and training providers across all industries in the U.S. economy.

III. Authorizing Legislation

Public Law 103-227, Title V, National Skill Standards Act of 1994.

IV. National Skill Standards Board (NSSB)

The National Skill Standards Act of 1994 created “a National Skill Standards Board to serve as a catalyst in stimulating the development and adoption of a voluntary national system of skill standards and of assessment and certification of attainment of skill standards.” Industry coalitions called Voluntary Partnerships are developing the skill standards, assessment and certification systems within fifteen NSSB-defined industry sectors.

V. Manufacturing Skill Standards Council (MSSC)

In March 1998, the National Skill Standards Board formally recognized the Manufacturing Skill Standards Council as the first Voluntary Partnership established to develop a system of voluntary skill standards for the manufacturing industry. This system is industry-led with full partnership and full and balanced participation of representatives of employees, unions, education, civil rights organizations, and community stakeholders. The Manufacturing Skill Standards Council (MSSC) is staffed and managed by the National Coalition for Advanced Manufacturing (NACFAM), http://www.nacfam.org, and the AFL-CIO Working for America Institute, http://workingforamerica.org.

VI. Mission of the Manufacturing Skill Standards Council

The mission of the MSSC is to develop a nationwide system of workforce skill standards for workers in 14 sectors of manufacturing. This nationwide Manufacturing Skill Standards System seeks to:

• Enhance productivity and global economic competitiveness of U.S.-based manufacturing companies;

• Raise the standard of living and economic security of American workers by improving their access to high-skill, high-wage employment and career opportunities for those currently in, entering, or reentering the workforce;

• Encourage the use of world-class academic, occupational and employability standards to guide continuous education and training for current and future workers.

VII. Background for Proposed Standards Release

On November 14-15, 2000, the Manufacturing Skill Standards Council reviewed the completed research and final data analyses on the proposed Manufacturing Skill Standards. The MSSC Steering Committee approved the proposed skill standards in their entirety and formally submitted them to the National Skill Standards Board for approval. The proposed MSSC Skill Standards are the product of over two years of intensive field research involving over 700 companies, 3800 workers, 300 subject matter experts and 30 facilitating organizations. Completion of these proposed standards for submission to the National Skill Standards Board marks the first major step towards developing a nationwide system of voluntary skill standards, assessments and certification, as envisioned in the National Skill Standards Act of 1994.

VIII. Proposed Standards

The MSSC Standards include information on the work (i.e., critical work functions, key activities, and performance indicators) as well as the knowledge and skills (academic, employability, and occupational/technical) needed in the six broad concentrations of work in manufacturing:

• Production;

• Health, Safety and Environmental Assurance;

• Logistics and Inventory Control;

• Maintenance, Installation & Repair;

• Production Process Development; and,

• Quality Assurance.

IX. Resolution of Comments

The Manufacturing Skill Standards Council shall review and take into consideration all comments; will respond in writing to comments as appropriate; and, with agreement from the National Skill Standards Board, will make revisions as deemed appropriate. At the end of the comment period the MSSC will post a summary of comments on the MSSC Web site, http://www.msscusa.org/. A summary of the response to comments and a notice of revision will be posted at a later date. The summary of responses may also be accessed at the NSSB website, http://www.nssb.org, via hyperlink to the MSSC website.

Signed at Washington DC this 23rd day of January, 2001.
Edie West,
Executive Director, National Skill Standards Board.

[FR Doc. 01-2405 Filed 1-25-01; 8:45 am]

BILLING CODE 4510-BF-P